DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by M-Class Mining, LLC.

DATES: All comments on the petition must be received by MSHA's Office of Standards, Regulations, and Variances on or before August 14, 2025.

ADDRESSES: You may submit comments identified by Docket No. MSHA-2025-0064 by any of the following methods:

1. Federal eRulemaking Portal: https://www.regulations.gov. Follow the instructions for submitting comments for MSHA-2025-0064.

2. Fax: 202-693-9441.

3. Email: petitioncomments@dol.gov

4. Regular Mail or Hand Delivery: MSHA, Office of Standards, Regulations, and Variances, Room C3522, 200 Constitution Ave. NW, Washington, DC 20210.

Attention: Jessica D. Senk, Acting Director, Office of Standards, Regulations, and Variances. Persons delivering documents are required to check in at the receptionist's desk. Individuals may inspect copies of the petition and comments during normal business hours at the address listed above. Before visiting MSHA in person, call 202-693-9440 to make an appointment.

FOR FURTHER INFORMATION CONTACT: Jessica D. Senk, Office of Standards, Regulations, and Variances at 202-693-9440 (voice), Petitionsformodification@dol.gov (email), or 202-693-9441 (fax). These are not toll-free numbers.

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-044-C.

Petitioner: M-Class Mining, LLC, 11351 North Thompsonville Road, Macedonia IL 62860.

Mine: MC#1 Mine, MSHA ID No. 11-03189, located in Franklin County, IL.

Regulation Affected: 30 CFR 75.1002(a), Installation of electric equipment and conductors; permissibility.

Modification Request: The petitioner requests a modification of 30 CFR 75.1002(a) to allow the use of intrinsically safe Powered Air Purifying Respirator (PAPRs) as an alternative method for respirable dust protection. Specifically, the petitioner is requesting to utilize the CleanSpace EX and the 3M Versaflo TR-800 PAPRs within 150 feet of pillar workings or longwall faces.

The petitioner states that:

(a) M-Class Mining, LLC, would like to provide PAPRs so that its miners have a better option of protection from the harmful dust that causes lung diseases.

(b) The 3M PAPR Airstream helmet was MSHA approved to provide miners respirable dust protection, but 3M has discontinued the Airstream helmet and there are no other MSHA approved PAPRs available.

(c) The CleanSpace EX and the 3M Versaflo TR-800 are both certified by UL under the ANSI/UL 60079-11 standard to be used in hazardous locations because they meet the intrinsic safety protection level and are acceptable in other jurisdictions to use in mines with the potential for methane accumulation.

(d) The alternative method will at all times guarantee no less than the same measure of protection afforded the miners under the mandatory standard.

The petitioner proposes the following alternative method:

(a) The equipment shall be examined at least weekly by a qualified person according to 30 CFR 75.512-2 and examination results shall be recorded weekly and may be expunged after one year.

(b) If methane is detected in concentrations of 1.0 percent or more, procedures in accordance with 30 CFR 75.323 shall be followed.

(c) A qualified person under 30 CFR 75.151 shall monitor for methane as is required by the standard in the affected area of the mine.

(d) The CleanSpace EX and 3M Versaflo have been determined to be intrinsically safe under IECEx and other countries' standards which provides the same level of protection. Neither manufacturer is pursuing MSHA approval.

(e) The 3M Versaflo TR-800 PAPR shall only use the 3M TR-830 battery pack or manufacturer equivalent.

(f) Before each shift when the CleanSpace EX or the 3M Versaflo TR-800 are to be used, all batteries and power units for the equipment shall be charged sufficiently for the expected usage on that shift. If spare battery packs for the 3M Versaflo TR-800 PAPR are provided, all battery “change outs” shall occur in intake air not within 150 feet of pillar workings or longwall faces.

(g) The examinations for the 3M Versaflo TR-800 PAPR shall include:

(1) Check the equipment for any physical damage and the integrity of the case;

(2) Remove the battery and examine for corrosion;

(3) Inspect the contact points to ensure a secure connection to the battery;

(4) Reinsert the battery and power up and shut down to ensure proper connections;

(5) Check the battery compartment cover or battery attachment to ensure that it is securely fastened; and

(6) For equipment utilizing lithium type cells, ensure that lithium cells and/or packs are not damaged or swollen.

(h) Miners shall receive training regarding how to safely use, care for, and inspect the PAPR, and the Proposed Decision and Order granted by MSHA before using equipment in the relevant part of the mine. A record of the training shall be kept and available upon request.

(i) The following maintenance and use conditions shall apply to equipment containing lithium-type batteries:

(1) The 3M Versaflo TR-830 Battery Pack shall not be disassembled or modified by anyone other than permitted by the manufacturer of the equipment.

(2) The 3M Versaflo TR-830 Battery Pack shall be charged only on the surface of the mine and only using a manufacturer's battery charger shown below or manufacturer equivalent.

(i) 3M Battery Charger TR-641N

(ii) 3M 4-Station battery charger TR-644N

(3) The CleanSpace EX shall be charged on the surface or underground in intake air and not within 150 feet of pillar workings or longwall faces utilizing the following chargers.

(i) CleanSpace PAF-0066, PAF-1100 or manufacturer equivalent.

(4) The 3M Versaflo TR-800 and CleanSpace EX PAPRs shall be used, charged, or stored in locations where the manufacturer's recommended temperature limits are not exceeded.

(5) The 3M Versaflo TR-830 battery pack shall not be used at the end of its life cycle (i.e., when there is a performance decrease of greater than 20 percent in battery-operated equipment). The battery pack shall be disposed of properly.

(j) M-Class Mining, LLC, MC#1 Mine does not have a representative of miners and the petition has been posted at the mine on May 21, 2025.

In support of the proposed alternative method, the petitioner has also submitted manufacturer specification sheets for the CleanSpace EX and the Versaflo TR-800 PAPRs.

The petitioner asserts that the alternative method will guarantee no less than the same measure of protection afforded the miners under the mandatory standard.

Jessica D. Senk,
Acting Director, Office of Standards, Regulations, and Variances.

[FR Doc. 2025-13185 Filed 7-14-25; 8:45 am]

BILLING CODE 4520-43-P